DEPARTMENT OF TRANSPORTATION

Surface Transportation Board

[Docket No. FD 35661]

Grand Trunk Western Railroad Company—Acquisition of Operating Easement—CSX Transportation, Inc.

AGENCY: Surface Transportation Board, DOT.

ACTION: Notice of exemption.

SUMMARY: The Board is granting an exemption under 49 U.S.C. 10502 from the prior approval requirements at 49 U.S.C. 11323-25 for Grand Trunk Western Railroad Company (GTW), an indirect, wholly owned subsidiary of Canadian National Railway Company, to acquire from CSX Transportation, Inc. (CSXT) an exclusive, perpetual, non-assignable railroad operating easement over approximately 2.1 miles of CSXT's Memphis Terminal Subdivision, between Leewood, Tenn., milepost 00F371.4, and Aulon, Tenn., milepost 00F373.4 (Leewood-Aulon Line), subject to employee protective conditions. The Leewood-Aulon Line is currently owned by CSXT. Illinois Central Railroad Company, a GTW affiliate, operates over it via trackage rights. Along with the proposed easement acquisition by GTW, CSXT would retain local and overhead trackage rights over the Leewood-Aulon Line.

GTW's easement acquisition is one part of an Agreement for Exchange of Perpetual Easements between GTW and CSXT. In exchange for GTW's acquiring an easement from CSXT over the Leewood-Aulon Line, GTW has agreed to grant CSXT an exclusive, perpetual, non-assignable railroad operating easement over 22.37 miles of GTW track on the Elsdon Subdivision between the connection with CSXT at Munster, Ind., milepost 31.07, and Elsdon, Ill., milepost 8.7, which connects to the southern end of the BNSF Railway Company's Corwith Yard. The Board is separately granting authority for CSXT's acquisition of this operating easement in the Chicago area in Docket Nos. FD 35522 et al.¹

¹ See CSX Transp. Inc.—Acquis. of Operating Easement—Grand Trunk W. R.R., FD 35522, et al. (STB served February 8, 2013).

DATES: This exemption will be effective on March 10, 2013. Petitions to stay must be filed by February 19, 2013. Petitions to reopen must be filed by February 28, 2013.

ADDRESSES: Send an original and 10 copies of all pleadings referring to Docket No. FD 35661 to: Surface Transportation Board, 395 E Street SW., Washington, DC 20423-0001. In addition, send one copy of pleadings to David A. Hirsh, Harkins Cunningham LLP, 1700 K Street NW., Suite 400, Washington, DC 20006-3804.

FOR FURTHER INFORMATION CONTACT: Scott M. Zimmerman, (202) 245-0386. Assistance for the hearing impaired is available through the Federal Information Relay Service (FIRS) at (800) 877-8339.

SUPPLEMENTARY INFORMATION: Additional information is contained in the Board's decision served February 8, 2013, which is available on our Web site at www.stb.dot.gov.

Decided: February 4, 2013.
By the Board, Chairman Elliott, Vice Chairman Begeman, and Commissioner Mulvey.
Derrick A. Gardner,
Clearance Clerk.

[FR Doc. 2013-02917 Filed 2-7-13; 8:45 am]

BILLING CODE P